DEPARTMENT OF THE INTERIOR

National Park Service

[NPS-NERO-ACAD-17933; PX.PD210624A.00.4]

Notice of Intent To Prepare a Draft Environmental Impact Statement for a Transportation Plan for Acadia National Park, Maine

AGENCY: National Park Service, Interior.

ACTION: Notice of Intent

SUMMARY: The National Park Service (NPS) intends to prepare an environmental impact statement (EIS) for a Transportation Plan for Acadia National Park. The purpose of the Transportation Plan is to determine how best to provide safe and efficient transportation and a variety of high quality experiences to visitors within Acadia National Park while ensuring the protection of park resources and values. The NPS is soliciting input from interested parties on issues, concerns, and suggestions pertinent to transportation within and access to Acadia National Park.

DATES: The comment period for scoping and the date, time, and location of public meetings will be announced through the NPS Planning, Environment, and Public Comment (PEPC) Web site at http://parkplanning.nps.gov/acad and in local media outlets.

ADDRESSES: Scoping comments may be submitted through the PEPC Web site at http://parkplanning.nps.gov/acad or by mail to: Superintendent, Acadia National Park, P.O. Box 177, Bar Harbor, ME 04609.

FOR FURTHER INFORMATION CONTACT: John Kelly, P.O. Box 177, Bar Harbor, ME 04609, (207) 288-8703, John_T_Kelly@nps.gov.

SUPPLEMENTARY INFORMATION: Pursuant to the National Environmental Policy Act of 1969, the NPS intends to prepare an EIS for transportation planning at Acadia National Park. The Transportation Plan for Acadia National Park will address a number of key issues related to transportation in the park. Draft plan objectives include: (1) Establish desired conditions for natural and cultural resources and visitor experiences at destinations and travel corridors throughout the park; (2) identify strategies to address parking and roadway capacity limitations and associated impacts to resources, safety, and visitor experiences; (3) evaluate and establish guidance to improve safety and reduce conflicts between oversized vehicles (i.e. buses, RV's, campers), motorcycles, bicyclists, pedestrians and passenger vehicles operating on or otherwise using park roads; (4) identify improvements to non-historic transportation infrastructure to increase safety and reduce resource impacts; and (5) clarify how the design and function of the Acadia Gateway Center and Hulls Cove Visitor Center can help to mitigate crowding, congestion, and improve visitor orientation. The plan will comprehensively examine several management options to improve safety on park roads and reduce crowding and congestion at key visitor destinations and travel corridors. Suggestions and ideas related to transportation and the management of cultural and natural resource conditions and visitor experiences at the park are encouraged.

Before including your address, phone number, email address, or other personal identifying information in any comment, you should be aware that your entire comment—including your personal identifying information—may be made publicly available at any time. While you can ask us in your comment to withhold your personal identifying information from public review, we cannot guarantee that we will be able to do so.

The responsible official for this Draft Transportation Plan/EIS is the Regional Director, NPS Northeast Region, U.S. Custom House, 200 Chestnut Street, Fifth Floor, Philadelphia, PA 19106.

Dated: August 3, 2015.
Michael A. Caldwell,
Regional Director, Northeast Region, National Park Service.

[FR Doc. 2015-21357 Filed 8-27-15; 8:45 am]

BILLING CODE 4310-WV-P